FEDERAL COMMUNICATIONS COMMISSION

Notice of Public Information Collection(s) Being Reviewed by the Federal Communications Commission for Extension Under Delegated Authority

March 16, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before May 24, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0977.

Title: Procedures for Reviewing Requests for Relief From State and Local Regulations Pursuant to Section 332(c)(7)(B)(v) of the Communications Act of 1934.

Form No.: N/A.

Type of Review: Extension of a currently approved collection.

Respondents: Business or other for-profit, not-for-profit institutions, and State, local or tribal government.

Number of Respondents: 10.

Estimated Time per Response: .50 hours.

Frequency of Response: Third party disclosure requirement.

Total Annual Burden: 5 hours.

Total Annual Cost: N/A.

Needs and Uses: On November 17, 2000, the FCC released a Report and Order in WT Docket No. 97-192 regarding its review of requests for relief from impermissible State and local regulation of personal wireless service facilities based on the environmental effects of radio-frequency emissions. The Report and Order amends Note 1 to paragraph (a) of 47 CFR 1.1206 of the Commission's rules so that the expanded service requirements set forth in that note apply to petitions filed pursuant 47 U.S.C. 332(c)(7)(B)(v). The service requirement instructs petitioners to serve a copy of such petitions on those State and local governments that are subject of the petitions, as well as those State and local governments otherwise specifically identified in the petitions whose actions petitioners argue are inconsistent with Federal law.

Federal Communications Commission.
Marlene H. Dortch,
Secretary.

[FR Doc. 04-6721 Filed 3-24-04; 8:45 am]

BILLING CODE 6712-01-P